DEPARTMENT OF COMMERCE

National Institute of Standards and Technology

[Docket No. 110425262-1258-02]

Evaluating Test Procedures for Voting Systems

AGENCY: National Institute of Standards and Technology, Commerce.

ACTION: Notice.

SUMMARY: NIST is soliciting interest in supplying voting equipment used in an election in 2008 or later and/or certified (or submitted for certification) by the Election Assistance Commission for use by NIST in research to develop and assess NIST's test procedures for voting equipment. Manufacturers interested in participating in this research will be asked to execute a Letter of Understanding. Interested parties are invited to contact NIST for information regarding participation, Letters of Understanding and shipping.

DATES: Manufacturers who wish to participate in the program must submit a request and an executed Letter of Understanding by 5 p.m. Eastern Standard Time on July 11, 2011.

ADDRESSES: Letters of Understanding may be obtained from and should be submitted to Benjamin Long, National Institute of Standards and Technology, Software and Systems Division, Building 222, Room B306, 100 Bureau Drive, Mail Stop 8970, Gaithersburg, MD 20899-8970. Letters of Understanding may be faxed to: Benjamin Long at (301) 975-6097.

FOR FURTHER INFORMATION CONTACT: For shipping and further information, you may telephone Benjamin Long at (301) 975-2816, or e-mail: blong@nist.gov.

SUPPLEMENTARY INFORMATION: In accordance with the provisions of the Help America Vote Act (Pub. L. 107-252), the National Institute of Standards and Technology (NIST) will be conducting research on voting equipment used in an election in 2008 or later and/or certified (or submitted for certification) by the Election Assistance Commission to develop and assess NIST test protocols for voting equipment. NIST research is designed to: (1) Develop advanced test protocols, (2) validate test protocols, and (3) support additional research and test protocol development for next generation voluntary voting system guidelines. NIST may also examine relevant instructions, documentation, and error messages, without doing any direct studies thereon.

NIST is soliciting interest in supplying voting equipment used in an election in 2008 or later and/or certified (or submitted for certification) by the Election Assistance Commission for use by NIST in research to develop and assess NIST's test procedures for voting equipment. Interested manufacturers should contact NIST at the address given above. NIST will supply a Letter of Understanding, which the manufacturer must execute and send back to NIST. The Letters of Understanding will be entered into pursuant to the authorities granted NIST under 15 U.S.C. 3710a. NIST will then provide the manufacturer with shipping instructions for the manufacturer's equipment. NIST anticipates that it will take approximately two years to conduct all necessary experiments to the equipment. No modification to the equipment is permitted during the testing process beyond that which is necessary and sufficient for performing test method validation activities. Manufacturers should be aware that some of the testing could damage or destroy the equipment, although NIST expects only normal wear and tear. NIST may transport equipment to locations off site from NIST's main campus as required for the purpose of conducting usability tests. NIST will ensure that all off site benchmark testing locations have the same or higher level of security and equipment protection procedures as the on-site NIST labs located in the Voting System Laboratory in Gaithersburg, MD. At the conclusion of the experiments, the equipment will be returned to the manufacturer in its post-testing condition. NIST, the Election Assistance Commission, and/or the Technical Guidelines Development Committee, will not be responsible for the condition of the equipment when returned to the manufacturer. As a condition for participating in this program, each manufacturer must agree in advance to hold harmless all of these parties for the condition of the equipment.

Information acquired during the tests regarding potential problems will be reported to the respective manufacturer. Testing results for identifiable vendor equipment will not be released subject to the terms and conditions in the Letters of Understanding. Comparative information (e.g., testing results from unidentified machine A, B, and C) may be released in a blind manner. Performance standards, benchmarks and conformance test procedures will be made publicly available.

Participating manufacturers should include or provide a technical tutorial on the setup and deployment of the equipment. NIST will pay all shipping costs except those not permitted by law (such as shipping insurance, which, if desired, must be purchased by the manufacturer). Unless the manufacturer desires to pay such shipping insurance costs, there is no other cost to the manufacturer for the testing.

Voting equipment used in an election in 2008 or later and/or certified (or submitted for certification) by the Election Assistance Commission that will be accepted for the experiments may include direct record electronic systems, optical scan systems, accessible voting systems, tabulation and reporting systems, ballot-on-demand, or electronic poll book systems as well as software used for ballot design and creation.

Dated: May 4, 2011.
Charles H. Romine,
Acting Associate Director for Laboratory Programs.

[FR Doc. 2011-11443 Filed 5-9-11; 8:45 am]

BILLING CODE 3510-13-P